DEPARTMENT OF AGRICULTURE

Animal and Plant Health Inspection Service

7 CFR Part 331

9 CFR Part 121

[Docket No. APHIS-2011-0099]

Multi-Agency Informational Meeting Concerning Compliance With the Federal Select Agent Program; Public Meeting

AGENCIES: Animal and Plant Health Inspection Service, USDA.

ACTION: Notice of public meeting.

SUMMARY: This is to notify all interested parties, including individuals and entities possessing, using, or transferring federally listed biological agents and toxins, that a meeting will be held to provide specific regulatory guidance related to the Federal Select Agent Program established under the Public Health Security and Bioterrorism Preparedness and Response Act of 2002. The meeting is being organized by the U.S. Department of Agriculture's Animal and Plant Health Inspection Service, the Department of Health and Human Services' Centers for Disease Control and Prevention, and the Department of Justice's Federal Bureau of Investigation, Criminal Justice Information Services. Issues to be discussed include personnel reliability programs, pre-employment background screenings, occupational health programs, and BSL4 surety programs.

DATES: The meeting will be held on November 16, 2011, from 7:30 a.m. to 5 p.m. Persons who wish to attend the meeting must register by October 14, 2011.

ADDRESSES: The meeting will be held at The Howard H. Baker, Jr. Center for Public Policy, 1640 Cumberland Avenue, Knoxville, TN 37996.

FOR FURTHER INFORMATION CONTACT: APHIS: Ms. Cassie Armiger, Program Analyst, APHIS Select Agent Program, APHIS, 4700 River Road, Unit 2, Riverdale, MD 20737; (301) 734-5960.

CDC: Dr. Eduardo O'Neill, Training & Outreach Officer, Division of Select Agents and Toxins, CDC, 1600 Clifton Road MS A-46, Atlanta, GA 30333; (404) 718-2000.

SUPPLEMENTARY INFORMATION: Title II of the Public Health Security and Bioterrorism Preparedness and Response Act of 2002, “Enhancing Controls on Dangerous Biological Agents and Toxins” (sections 201 through 231), provides for the regulation of certain biological agents and toxins by the Department of Health and Human Services (HHS) (subtitle A, sections 201-204) and the Department of Agriculture (USDA) (subtitle B, sections 211-213), and provides for interagency coordination between the two Departments regarding overlap agents and toxins (subtitle C, section 221). For the HHS, the Centers for Disease Control and Prevention (CDC) has been designated as the agency with primary responsibility for implementing the provisions of the Act; the Animal and Plant Health Inspection Service (APHIS) is the agency fulfilling that role for the USDA. CDC and APHIS list select agents and toxins in 42 CFR 73.3 and in 7 CFR 331.3 and 9 CFR 121.3, respectively. The Federal Bureau of Investigation's Criminal Justice Information Service (CJIS) conducts security risk assessments of all individuals and nongovernmental entities that request to possess, use, or transfer select agents and toxins.

The meeting announced here is an opportunity for the regulated community (i.e., registered entity responsible officials, alternate responsible officials, and entity owners) and other interested individuals to obtain specific regulatory guidance and information on standards concerning biosafety and biosecurity issues related to the Federal Select Agent Program. CDC, APHIS, and CJIS representatives will be present at the meeting to address questions and concerns.

Updates on the current status of the APHIS and CDC proposed rule, general components of a personnel reliability program, pre-employment background screening, occupational health programs, BSL4 surety programs, and future responsible official training will be discussed, including panel discussions, by representatives from the Department of Homeland Security, CJIS, APHIS, CDC, and National Institutes of Health.

All attendees must register in advance. To register all persons must complete an online registration form at http://www.selectagents.gov and submit it by October 14, 2011. For those unable to attend in person, the workshop will be available over the Internet as a webcast.

Parking is available at the University Center for a $5 fee. Hotel information is available on the Internet at http://www.selectagents.gov.

If you require special accommodations, such as a sign language interpreter, please call or write one of the individuals listed under FOR FURTHER INFORMATION CONTACT.

Done in Washington, DC, this 3rd day of October 2011.
Kevin Shea,
Acting Administrator, Animal and Plant Health Inspection Service.

[FR Doc. 2011-26071 Filed 10-6-11; 8:45 am]

BILLING CODE 3410-34-P